DEPARTMENT OF THE INTERIOR

Bureau of Land Management

[12 XL 5017AR LLUTC010000 L54400000 EQ0000 LVCLJ12J0460; UTU-89300]

Notice of Realty Action: Proposed Non-Competitive (Direct) Sale of Public Land in Beaver County, UT

AGENCY: Bureau of Land Management, Interior.

ACTION: Notice of realty action.

SUMMARY: The Bureau of Land Management (BLM) is proposing a non-competitive (direct) sale of 8.125 acres of public land in Beaver County, Utah, to adjoining landowner, Kent and Alice Smith, under the provisions of the Federal Land Policy and Management Act of 1976 (FLPMA), as amended, at not less than the appraised fair market value of $2,030. The sale parcel would be sold to the adjacent landowner to resolve an inadvertent unauthorized use confirmed by a private survey in 2009.

DATES: Comments regarding the sale must be received by the BLM on or before November 13, 2015. The land will not be offered for sale until at least 60 days after publication of this notice.

ADDRESSES: You may submit comments concerning this notice to the BLM Cedar City Field Office, Attn: Michelle Campeau, 176 East DL Sargent Drive, Cedar City, Utah 84721. Comments may be emailed to mcampeau@blm.gov or telefaxed to (435) 865-3058.

FOR FURTHER INFORMATION CONTACT: Michelle Campeau, Realty Specialist, 435-865-3047, at the above address or email to mcampeau@blm.gov. Persons who use a telecommunication device for the deaf (TDD) may call the Federal Information Relay Service (FIRS) at 1-800-877-8339 to leave a message or question for the above individual. The FIRS is available 24 hours a day, 7 days a week to leave a message or question with the above individual. You will receive a reply during normal business hours.

SUPPLEMENTARY INFORMATION: The following described public lands have been examined and found suitable for direct sale pursuant to Sections 203 and 209 of FLPMA, as amended (43 U.S.C. 1713 and 1719) and 43 CFR parts 2711 and 2720.

Salt Lake Meridian, Utah

T. 27 S., R. 10 W.,

Sec. 7, SE¼SW¼SE¼SE¼SW¼ and S½SE¼SE¼SE¼SW¼;

Sec. 18, N½NE¼NE¼ NW¼, NE¼SE¼NE¼NE¼NW¼,

and SE¼NE¼NW¼NE¼NW¼.

The areas described aggregate 8.125 acres.

The parcel would be sold to the adjacent landowners, Kent and Alice Smith, to resolve an inadvertent unauthorized use identified by the BLM in 2007 and confirmed through a private survey in 2009. The parcel represents the smallest legal subdivision that would wholly encompass all existing surface improvements and debris area associated with a former salvage and hauling operation.

In accordance with 43 CFR 2710.0-6(c)(3)(iii) and 43 CFR 2711.3-3(a), direct sale may be appropriate to resolve inadvertent, unauthorized occupancy of the land or to protect existing equities in the land. The sale, if completed, would protect the existing improvements and resolve the inadvertent unauthorized use and occupancy. The parcel is not suitable for management by other Federal agencies. A Notice of Intent to amend the Resource Management Plan (RMP) in support of the proposed sale was published on August 20, 2014 (79 FR 49336). Both the amendment and sale action have been analyzed in Environmental Assessment (EA) No. C010-2012-0058-EA. The lands have no known mineral value, no recognized environmental conditions, and no existing encumbrances of record.

Conveyance of the parcel would be subject to valid existing rights and the following terms, conditions, and reservations:

1. A right-of-way thereon for ditches and canals constructed by authority of the United States, Act of August 30, 1890 (43 U.S.C. 945).

2. An appropriate indemnification clause protecting the United States from claims arising out of the patentee's use occupancy or occupations on the patented lands.

On August 20, 2014, the lands were segregated from the public land laws, including the mining laws, except for the sale provisions of FLPMA (79 FR 49336). Detailed information concerning the land sale including the EA, appraisal report, environmental site assessment, and mineral report are available for review at the BLM Cedar City Field Office.

Any comments regarding the sale will be reviewed by the BLM State Director or other authorized official of the Department of the Interior, who may sustain, vacate, or modify this realty action in whole or in part. In the absence of timely filed objections, this realty action will become the final determination of the Department of the Interior.

Before including your address, telephone number, email address, or other personal identifying information in your comment, you should be aware that your entire comment—including your personal identifying information—may be made publicly available at any time. While you can ask in your comment to withhold your personal identifying information from public review, we cannot guarantee that we will be able to do so.

Authority: 43 CFR 2710, 2711, and 2720

Jenna Whitlock,
Acting State Director.

[FR Doc. 2015-24695 Filed 9-28-15; 8:45 am]

BILLING CODE 4310-DQ-P